GENERAL SERVICES ADMINISTRATION

Office of Communications

Cancellation of a Standard Form

AGENCY: General Services Administration.

ACTION: Notice.

SUMMARY: The Department of State is cancelling the following Standard Form because of no usage:

OF 212, Allotment of Pay—Application and Authorization to Make, Change, or Discontinue.

DATES: Effective April 12, 2000.

FOR FURTHER INFORMATION CONTACT: Ms. Barbara Williams, General Services Administration, (202) 501-0581.

Dated: March 28, 2000.
Barbara M. Williams,
Deputy Standard and Optional Forms Management Officer.

[FR Doc. 00-9039 Filed 4-11-00; 8:45 am]

BILLING CODE 6820-34-M